DEPARTMENT OF LABOR

Employee Benefits Security Administration

215th Meeting of the Advisory Council on Employee Welfare and Pension Benefit Plans; Notice of Meeting

Pursuant to the authority contained in section 512 of the Employee Retirement Income Security Act of 1974 (ERISA), 29 U.S.C. 1142, the 215th open meeting of the Advisory Council on Employee Welfare and Pension Benefit Plans (also known as the ERISA Advisory Council) will be held on Friday, May 5, 2023.

The meeting will occur from 8:30 a.m. to approximately 2:00 p.m. (ET), with a one-hour break for lunch. The meeting will take place at the U.S. Department of Labor, 200 Constitution Avenue NW, Room C5515-1A/1B, Washington, DC 20210. The meeting will also be accessible via teleconference and some participants, as well as members of the public, may elect to attend virtually. Instructions for public teleconference access will be available on the ERISA Advisory Council's web page at https://www.dol.gov/agencies/ebsa/about-ebsa/about-us/erisa-advisory-council approximately one week prior to the meeting.

The purpose of the open meeting is to set the topics to be addressed by the Council in 2023. Also, the ERISA Advisory Council members will receive an update from leadership of the Employee Benefits Security Administration (EBSA).

Organizations or members of the public wishing to submit a written statement may do so on or before Friday, April 28, 2023, to Christine Donahue, Designated Federal Officer, ERISA Advisory Council. Statements should be transmitted electronically as an email attachment in text or pdf format to donahue.christine@dol.gov. Statements transmitted electronically that are included in the body of the email will not be accepted. Relevant statements received on or before Friday, April 28, 2023, will be included in the record of the meeting and made available through the EBSA Public Disclosure Room. No deletions, modifications, or redactions will be made to the statements received as they are public records.

Individuals or representatives of organizations wishing to address the ERISA Advisory Council should forward their requests no later than Friday, April 28, 2023, via email to donahue.christine@dol.gov or by telephoning (202) 693-8641. Oral presentations will be limited to ten minutes, time permitting, but an extended statement may be submitted for the record.

Individuals who need special accommodations should contact the Designated Federal Officer no later than Friday, April 28, 2023, via email to donahue.christine@dol.gov or by telephoning (202) 693-8641.

For more information about the meeting, contact the Designated Federal Officer at the address or telephone number above.

Signed at Washington, DC, this 21st day of March, 2023.
Lisa M. Gomez,
Assistant Secretary, Employee Benefits Security Administration.

[FR Doc. 2023-06141 Filed 3-23-23; 8:45 am]

BILLING CODE 4510-29-P